DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 20 entities and one individual whose property and interests in property have been blocked pursuant to the Foreign Narcotics Kingpin Designation Act (“Kingpin Act”) (21 U.S.C. 1901-1908, 8 U.S.C. § 1182). Additionally, OFAC is publishing additions to the identifying information for five individuals previously designated pursuant to the Kingpin Act.

DATES: The designation by the Director of OFAC of the 20 entities and one individual identified in this notice pursuant to section 805(b) of the Kingpin Act is effective on October 31, 2013.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On October 31, 2013, the Director of OFAC designated the following 20 entities and one individual whose property and interests in property are blocked pursuant to section 805(b) of the Kingpin Act.

Entities

1. ARRENDADORA TURIN, S.A., Jalisco, Mexico; Folio Mercantil No. 75413-1 (Mexico) [SDNTK].

2. BARSAT, S.A. DE C.V. (a.k.a. BARZAT), Lope de Vega No. 232, Arcos Vallarta, Guadalajara, Jalisco 44130, Mexico; Folio Mercantil No. 23415-1 (Mexico) [SDNTK].

3. DESARROLLADORA SAN FRANCISCO DEL RINCON, S.A. DE C. V., Guadalajara, Jalisco, Mexico; Folio Mercantil No. 27273-1 (Mexico) [SDNTK].

4. DINERMAS, S. DE R.L. DE C.V., Guadalajara, Jalisco, Mexico; Folio Mercantil No. 40037-1 (Mexico) [SDNTK].

5. ENERGETICOS VAGO, S.A. DE C.V., Cuauhtemoc No. 252, Valle de San Sebastian, Tlajomulco de Zuniga, Jalisco 45650, Mexico; Folio Mercantil No. 29924-1 (Mexico) [SDNTK].

6. ESTACION DE SERVICIO ATEMAJAC, S.A. DE C.V., Calle Mar Baltico #2240-408, Colonia Country Club, Guadalajara, Jalisco, Mexico; Folio Mercantil No. 58218-1 (Mexico) [SDNTK].

7. FORTANAS, S. DE R.L. DE C.V., Guadalajara, Jalisco, Mexico; Folio Mercantil No. 39751-1 (Mexico) [SDNTK].

8. GRUPO BARSATERRA S.A. DE C.V., Guadalajara, Jalisco, Mexico; Folio Mercantil No. 25296-1 (Mexico) [SDNTK].

9. GRUPO ESPANOL ELCAR, S.A. DE C.V., Guadalajara, Jalisco, Mexico; Folio Mercantil No. 23416-1 (Mexico) [SDNTK].

10. INMOBILIARIA PROMINENTE, S.A. DE C.V., Guadalajara, Jalisco, Mexico; Folio Mercantil No. 12354-1 (Mexico) [SDNTK].

11. MINERALES NUEVA ERA, S.A. DE C.V. (a.k.a. DIATOMAG; a.k.a. DIATOMKILL), Calle San Antonio No. 70, Col. Las Fuentes, Zapopan, Jalisco CP 45070, Mexico; Vidrio No. 5, Col. el Camino, Tlaquepaque, Jalisco 45239, Mexico; Volcan Paricutin 6277, Col. El Colli Urbano, Zapopan, Jalisco, Mexico; Folio Mercantil No. 33093-1 (Mexico) [SDNTK].

12. MINERALES NUEVA GENERACION, S.A. DE C.V., Calle San Antonio No. 70, Col. Las Fuentes, Zapopan, Jalisco CP 45070, Mexico; R.F.C. MNG100714FR0 (Mexico); Folio Mercantil No. 56284-1 (Mexico) [SDNTK].

13. NUEVA TERRA, S. DE R.L. DE C.V., Lope de Vega No. 232, Arcos Vallarta, Guadalajara, Jalisco 44130, Mexico; Folio Mercantil No. 39815-1 (Mexico) [SDNTK].

14. OPERADORA ENGO, S.C., Comercio 172, Mexicaltzingo, Guadalajara, Jalisco C.P. 44180, Mexico; Liceo 793, Alcalde Barranquitas, Guadalajara, Jalisco C.P. 44280, Mexico; R.F.C. OEN060529P75 (Mexico) [SDNTK].

15. PETRO LONDON, S. DE R.L. DE C.V., Lazaro Cardenas No. 4094, Don Bosco Vallarta, Zapopan, Jalisco 45049, Mexico; Folio Mercantil No. 28057-1 (Mexico) [SDNTK].

16. PETRO MAS, S. DE R.L. DE C.V., Guadalajara, Jalisco, Mexico; Folio Mercantil No. 39818-1 (Mexico) [SDNTK].

17. PROMI FEL, S. DE R.L. DE C.V., Guadalajara, Jalisco, Mexico; Folio Mercantil No. 39805-1 (Mexico) [SDNTK].

18. SERVICIO Y OPERADORA SANTA ANA, S.A. DE C.V., Camino a Santa Ana Tepetitlan No. 316, Colonia Agricola, Zapopan, Jalisco C.P. 45200, Mexico; R.F.C. SOS050203E31 (Mexico); Folio Mercantil No. 25524-1 (Mexico) [SDNTK].

19. TAXI AEREO NACIONAL DE CULIACAN, S.A., Culiacan, Sinaloa, Mexico; R.F.C. TAN-780822-001 (Mexico) [SDNTK].

20. VILLAS DEL COLLI S.A. DE C.V., Guadalajara, Jalisco, Mexico; Folio Mercantil No. 3875-1 (Mexico) [SDNTK].

Individual

1. SOTO RUIZ, Juan Carlos, Calle Las Flores 117, Colonia Victor Hugo, Zapopan, Jalisco, Mexico; DOB 27 May 1978; POB Guadalajara, Jalisco, Mexico; C.U.R.P. SORJ780527HJCTZN06 (Mexico) (individual) [SDNTK] (Linked To: ARRENDADORA TURIN, S.A.; Linked To: DESARROLLOS BIO GAS, S.A. DE C.V.; Linked To: ECA ENERGETICOS, S.A. DE C.V.; Linked To: ENERGETICOS VAGO, S.A. DE C.V.; Linked To: INMOBILIARIA PROMINENTE, S.A. DE C.V.; Linked To: OPERADORA ENGO, S.C.; Linked To: NUEVA TERRA, S. DE R.L. DE C.V.; Linked To: PRONTO SHOES, S.A. DE C.V.; Linked To: SERVICIO Y OPERADORA SANTA ANA, S.A. DE C.V.).

Additionally, OFAC is publishing additions to the identifying information for the following five individuals previously designated pursuant to the Kingpin Act.

1. CARO ELENES, Hector Rafael (a.k.a. CARO HELENES, Hector Rafael), Callejon del Serrano 4361, Guadalajara, Jalisco, Mexico; Loreto Mendez #4432, Guadalajara, Jalisco, Mexico; San Gonzalo No. 1715, Colonia Santa Isabel, Zapopan, Jalisco C.P. 45110, Mexico; Calle Circuito Madrigal No. 4236 Interior 5, Colonia Santa Isabel, Zapopan, Jalisco C.P. 45110, Mexico; Avenida Acueducto No. 5056, Colonia Jardines de la Patria, Zapopan, Jalisco, Mexico; DOB 18 Dec 1975; POB Culiacan, Sinaloa, Mexico; R.F.C. CAEH751218JT4 (Mexico); C.U.R.P. CAEH751218HSLRLC01 (Mexico) (individual) [SDNTK] (Linked To: BLUE POINT SALT, S.A. DE C.V.; Linked To: DESARROLLOS BIO GAS, S.A. DE C.V.; Linked To: ECA ENERGETICOS, S.A. DE C.V.; Linked To: ORGANIC SALT, S.A. DE C.V.; Linked To: PETRO BIO, S. DE R.L. DE C.V.; Linked To: PRONTO SHOES, S.A. DE C.V.).

2. CARO ELENES, Henoch Emilio, Callejon del Sereno No. 4361, Col. Fracc. Jardines Universidad, Zapopan, Jalisco C.P. 45110, Mexico; Paseo del Bosque No. 2428, Colonia Lomas Altas, Zapopan, Jalisco, Mexico; Av. Pablo Neruda No. 4111, Casa 1, Colonia Lomas del Valle, Zapopan, Jalisco C.P. 45129, Mexico; Paseo de los Parques No. 3995, Interior 7, Zapopan, Jalisco C.P. 45110, Mexico; Loreto Mendez #4432, Guadalajara, Jalisco, Mexico; DOB 15 Mar 1980; POB Culiacan, Sinaloa, Mexico; alt. POB Guadalajara, Jalisco, Mexico; R.F.C. CAEH800315V38 (Mexico); C.U.R.P. CAEH800315HSLRLN07 (Mexico) (individual) [SDNTK] (Linked To: BLUE POINT SALT, S.A. DE C.V.; Linked To: DESARROLLOS BIO GAS, S.A. DE C.V.; Linked To: ECA ENERGETICOS, S.A. DE C.V.; Linked To: EVCOMER, S.A. DE C.V.; Linked To: PETRO BIO, S. DE R.L. DE C.V.; Linked To: PRONTO SHOES, S.A. DE C.V.; Linked To: REFORESTACIONES CARELES, S. DE P.R. DE R.L.).

3. CARO ELENES, Mario Yibran (a.k.a. CARO, Gibran), Callejon del Sereno No. 4361, Col. Fracc. Jardines Universidad, Zapopan, Jalisco C.P. 45110, Mexico; Calle Loreto Mendez 4432, Sector Hidalgo, Guadalajara, Jalisco, Mexico; DOB 11 Jun 1983; POB Guadalajara, Jalisco, Mexico; R.F.C. CAEM830611SXD (Mexico); C.U.R.P. CAEM830611HJCRLR05 (Mexico) (individual) [SDNTK] (Linked To: PETRO BIO, S. DE R.L. DE C.V.; Linked To: PRONTO SHOES, S.A. DE C.V.; Linked To: REFORESTACIONES CARELES, S. DE P.R. DE R.L.).

4. CARO ELENES, Roxana Elizabeth, Callejon del Sereno No. 4361, Col. Fracc. Jardines Universidad, Zapopan, Jalisco C.P. 45110, Mexico; San Gonzalo No. 1715, Colonia Santa Isabel, Zapopan, Jalisco C.P. 45110, Mexico; DOB 17 Jan 1978; POB Culiacan, Sinaloa, Mexico; R.F.C. CAER780117MK8 (Mexico); C.U.R.P. CAER780117MSLRLX03 (Mexico) (individual) [SDNTK] (Linked To: HACIENDA LAS LIMAS, S.A. DE C.V.; Linked To: PETRO BIO, S. DE R.L. DE C.V.; Linked To: REFORESTACIONES CARELES, S. DE P.R. DE R.L.).

5. ELENES LERMA, Maria Elizabeth (a.k.a. ELENES DE CARO, Elizabeth), San Gonzalo No. 1715, Colonia Santa Isabel, Zapopan, Jalisco C.P. 45110, Mexico; Carretera Isidro Mazatepec No. 500, Colonia San Agustin, Tlajomulco de Zuniga, Jalisco C.P. 45645, Mexico; DOB 12 Dec 1952; POB Badiraguato, Sinaloa, Mexico; alt. POB Culiacan, Sinaloa, Mexico; R.F.C. EELE521212B18 (Mexico); C.U.R.P. EELE521212MSLLRL01 (Mexico) (individual) [SDNTK] (Linked To: HACIENDA LAS LIMAS, S.A. DE C.V.).

The listings for these five individuals now appear as follows:

1. CARO ELENES, Hector Rafael (a.k.a. CARO HELENES, Hector Rafael), Callejon del Serrano 4361, Guadalajara, Jalisco, Mexico; Loreto Mendez #4432, Guadalajara, Jalisco, Mexico; San Gonzalo No. 1715, Colonia Santa Isabel, Zapopan, Jalisco C.P. 45110, Mexico; Calle Circuito Madrigal No. 4236 Interior 5, Colonia Santa Isabel, Zapopan, Jalisco C.P. 45110, Mexico; Avenida Acueducto No. 5056, Colonia Jardines de la Patria, Zapopan, Jalisco, Mexico; DOB 18 Dec 1975; POB Culiacan, Sinaloa, Mexico; R.F.C. CAEH751218JT4 (Mexico); C.U.R.P. CAEH751218HSLRLC01 (Mexico) (individual) [SDNTK] (Linked To: BLUE POINT SALT, S.A. DE C.V.; Linked To: DESARROLLOS BIO GAS, S.A. DE C.V.; Linked To: ECA ENERGETICOS, S.A. DE C.V.; Linked To: ORGANIC SALT, S.A. DE C.V.; Linked To: PETRO BIO, S. DE R.L. DE C.V.; Linked To: PRONTO SHOES, S.A. DE C.V.; Linked To: ARRENDADORA TURIN, S.A.; Linked To: BARSAT, S.A. DE C.V.; Linked To: DESARROLLADORA SAN FRANCISCO DEL RINCON, S.A. DE C. V.; Linked To: DINERMAS, S. DE R.L. DE C.V.; Linked To: ENERGETICOS VAGO, S.A. DE C.V.; Linked To: ESTACION DE SERVICIO ATEMAJAC, S.A. DE C.V.; Linked To: FORTANAS, S. DE R.L. DE C.V.; Linked To: GRUPO BARSATERRA S.A. DE C.V.; Linked To: GRUPO ESPANOL ELCAR, S.A. DE C.V.; Linked To: INMOBILIARIA PROMINENTE, S.A. DE C.V.; Linked To: NUEVA TERRA, S. DE R.L. DE C.V.; Linked To: OPERADORA ENGO, S.C.; Linked To: PETRO LONDON, S. DE R.L. DE C.V.; Linked To: PETRO MAS, S. DE R.L. DE C.V.; Linked To: PROMI FEL, S. DE R.L. DE C.V.; Linked To: SERVICIO Y OPERADORA SANTA ANA, S.A. DE C.V.; Linked To: TAXI AEREO NACIONAL DE CULIACAN, S.A.; Linked To: VILLAS DEL COLLI S.A. DE C.V.).

2. CARO ELENES, Henoch Emilio, Callejon del Sereno No. 4361, Col. Fracc. Jardines Universidad, Zapopan, Jalisco C.P. 45110, Mexico; Paseo del Bosque No. 2428, Colonia Lomas Altas, Zapopan, Jalisco, Mexico; Av. Pablo Neruda No. 4111, Casa 1, Colonia Lomas del Valle, Zapopan, Jalisco C.P. 45129, Mexico; Paseo de los Parques No. 3995, Interior 7, Zapopan, Jalisco C.P. 45110, Mexico; Loreto Mendez #4432, Guadalajara, Jalisco, Mexico; DOB 15 Mar 1980; POB Culiacan, Sinaloa, Mexico; alt. POB Guadalajara, Jalisco, Mexico; R.F.C. CAEH800315V38 (Mexico); C.U.R.P. CAEH800315HSLRLN07 (Mexico) (individual) [SDNTK] (Linked To: BLUE POINT SALT, S.A. DE C.V.; Linked To: DESARROLLOS BIO GAS, S.A. DE C.V.; Linked To: ECA ENERGETICOS, S.A. DE C.V.; Linked To: EVCOMER, S.A. DE C.V.; Linked To: PETRO BIO, S. DE R.L. DE C.V.; Linked To: PRONTO SHOES, S.A. DE C.V.; Linked To: REFORESTACIONES CARELES, S. DE P.R. DE R.L.; Linked To: ARRENDADORA TURIN, S.A.; Linked To: BARSAT, S.A. DE C.V.; Linked To: DESARROLLADORA SAN FRANCISCO DEL RINCON, S.A. DE C. V.; Linked To: DINERMAS, S. DE R.L. DE C.V.; Linked To: ENERGETICOS VAGO, S.A. DE C.V.; Linked To: FORTANAS, S. DE R.L. DE C.V.; Linked To: GRUPO BARSATERRA S.A. DE C.V.; Linked To: GRUPO ESPANOL ELCAR, S.A. DE C.V.; Linked To: MINERALES NUEVA ERA, S.A. DE C.V.; Linked To: MINERALES NUEVA GENERACION, S.A. DE C.V.; Linked To: NUEVA TERRA, S. DE R.L. DE C.V.; Linked To: OPERADORA ENGO, S.C.; Linked To: PETRO LONDON, S. DE R.L. DE C.V.; Linked To: PETRO MAS, S. DE R.L. DE C.V.; Linked To: PROMI FEL, S. DE R.L. DE C.V.; Linked To: TAXI AEREO NACIONAL DE CULIACAN, S.A.; Linked To: VILLAS DEL COLLI S.A. DE C.V.).

3. CARO ELENES, Mario Yibran (a.k.a. CARO, Gibran), Callejon del Sereno No. 4361, Col. Fracc. Jardines Universidad, Zapopan, Jalisco C.P. 45110, Mexico; Calle Loreto Mendez 4432, Sector Hidalgo, Guadalajara, Jalisco, Mexico; DOB 11 Jun 1983; POB Guadalajara, Jalisco, Mexico; R.F.C. CAEM830611SXD (Mexico); C.U.R.P. CAEM830611HJCRLR05 (Mexico) (individual) [SDNTK] (Linked To: PETRO BIO, S. DE R.L. DE C.V.; Linked To: PRONTO SHOES, S.A. DE C.V.; Linked To: REFORESTACIONES CARELES, S. DE P.R. DE R.L.; Linked To: BARSAT, S.A. DE C.V.; Linked To: DINERMAS, S. DE R.L. DE C.V.; Linked To: NUEVA TERRA, S. DE R.L. DE C.V.; Linked To: PETRO MAS, S. DE R.L. DE C.V.; Linked To: PROMI FEL, S. DE R.L. DE C.V.; Linked To: TAXI AEREO NACIONAL DE CULIACAN, S.A.).

4. CARO ELENES, Roxana Elizabeth, Callejon del Sereno No. 4361, Col. Fracc. Jardines Universidad, Zapopan, Jalisco C.P. 45110, Mexico; San Gonzalo No. 1715, Colonia Santa Isabel, Zapopan, Jalisco C.P. 45110, Mexico; DOB 17 Jan 1978; POB Culiacan, Sinaloa, Mexico; R.F.C. CAER780117MK8 (Mexico); C.U.R.P. CAER780117MSLRLX03 (Mexico) (individual) [SDNTK] (Linked To: HACIENDA LAS LIMAS, S.A. DE C.V.; Linked To: PETRO BIO, S. DE R.L. DE C.V.; Linked To: REFORESTACIONES CARELES, S. DE P.R. DE R.L.; Linked To: BARSAT, S.A. DE C.V.; Linked To: TAXI AEREO NACIONAL DE CULIACAN, S.A.).

5. ELENES LERMA, Maria Elizabeth (a.k.a. ELENES DE CARO, Elizabeth), San Gonzalo No. 1715, Colonia Santa Isabel, Zapopan, Jalisco C.P. 45110, Mexico; Carretera Isidro Mazatepec No. 500, Colonia San Agustin, Tlajomulco de Zuniga, Jalisco C.P. 45645, Mexico; DOB 12 Dec 1952; POB Badiraguato, Sinaloa, Mexico; alt. POB Culiacan, Sinaloa, Mexico; R.F.C. EELE521212B18 (Mexico); C.U.R.P. EELE521212MSLLRL01 (Mexico) (individual) [SDNTK] (Linked To: HACIENDA LAS LIMAS, S.A. DE C.V.; Linked To: TAXI AEREO NACIONAL DE CULIACAN, S.A.; Linked To: VILLAS DEL COLLI S.A. DE C.V.).

Dated: October 31, 2013.
Barbara C. Hammerle,
Acting Director, Office of Foreign Assets Control.

[FR Doc. 2013-26608 Filed 11-6-13; 8:45 am]

BILLING CODE 4810-AL-P